MORRIS K. UDALL AND STEWART L. UDALL FOUNDATION

Agency Information Collection Activities: Proposed Collection; Comment Request

AGENCY: John S. McCain III National Center for Environmental Conflict Resolution (National Center), Morris K. Udall and Stewart L. Udall Foundation.

ACTION: Notice of request for public comment and submission to OMB of proposed collection of information.

SUMMARY: The Morris K. Udall and Stewart L. Udall Foundation has submitted the information collections described below to the Office of Management and Budget (OMB) for approval. In accordance with the Paperwork Reduction Act of 1995, the agency is requesting comments on these information collections from all interested individuals and organizations. The purpose of this notice is to allow 30 days for public comment.

DATES: Interested persons are invited to submit comments on or before April 29, 2024.

ADDRESSES: Written comments and recommendations for the proposed information collections should be submitted within 30 days of publication of this notice to https://www.reginfo.gov/public/do/PRAMain. Find the information collections by selecting “Currently under 30-day Review—Open for Public Comments” or by using the search function.

FOR FURTHER INFORMATION CONTACT: For specific questions or to request additional information about these ICRs, contact Mitch Chrismer at chrismer@udall.gov, or by telephone at 520-901-8544. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Morris K. Udall and Stewart L. Udall Foundation's National Center, in accordance with the Paperwork Reduction Act of 1995 (PRA) (44 U.S.C. 3501 et seq.), previously provided the general public and Federal agencies with an opportunity to comment on proposed, revised, and continuing collections of information during a 60-day period in the Federal Register, 88 FR 63630, September 15, 2023. No comments were received and therefore no changes were made based on public comment. However, the Udall Foundation decided to consolidate the six initially proposed Information Collection Request (ICR) renewals into two ICRs. Five of the initially proposed ICRs have been consolidated under a single OMB Control Number with multiple Information Collections (ICs) contained within it. The proposed ICRs are necessary to measure, improve, and report on National Center performance and delivery of its services. They are not expected to have a significant economic impact on respondents or to affect a substantial number of small entities. Please note that written comments received in response to this notice will be considered public records.

Title of Collection: Environmental Conflict Resolution Services Participant Questionnaires.

OMB Control Number: 3320-0003.

Respondents/Affected Public: Individuals or households; business or other for-profit; not-for-profit; federal government; and state, local or tribal government.

Total Estimated Number of Annual Responses: 765.

Total Estimated Number of Annual Burden Hours: 100.

Abstract: The ICs used for this program are being consolidated under a single ICR. All will be separate ICs under OMB Control Number 3320-0003. These ICs are:

• National Center for Environmental Conflict Resolution Assessment Evaluation—Requester Questionnaire (former OMB Control Number 3320-0003);

• Mediation Services Participant Questionnaire (Agreement Seeking) (former OMB Control Number 3320-0004);

• Facilitated Meeting/Workshop Services Participant Questionnaire (former OMB Control Number 3320-0007);

• ECR Support Services Evaluation—Requester Questionnaire (former OMB Control Number 3320-0009); and

• National Center for Environmental Conflict Resolution Facilitated Process Evaluation—Participant Questionnaire (former OMB Control Number 3320-0010).

These evaluations support the National Center's program evaluation and have the practical utility of supporting achievement of the National Center's goals and continuous improvement of service delivery. These goals are to assist parties in resolving federal environmental disputes in a timely and constructive manner; to increase the appropriate use of Environmental Collaboration and Conflict Resolution (ECCR), particularly within the federal government; to improve the ability of federal agencies and other interested parties to engage in ECCR effectively; and to promote collaborative problem solving and consensus building during the design and implementation of federal environmental policies to help prevent and reduce the incidence of future environmental disputes. These evaluations are a primary means by which the National Center evaluates its performance in these key areas of agency activity.

Title of Collection: Training Services Participant Questionnaire.

OMB Control Number: 3320-0006.

Respondents/Affected Public: Individuals or households; business or other for-profit; not-for-profit; federal government; and state, local or tribal government.

Total Estimated Number of Annual Responses: 600.

Total Estimated Number of Annual Burden Hours: 55.

Abstract: This survey collects information to evaluate trainings conducted by the National Center. Trainings include any session of three hours or more in the following categories: skill-building workshops requested by agencies for their staff (e.g., interest-based negotiation training for complex intergovernmental conflicts); ECCR project-specific capacity building for stakeholders (e.g., stakeholder orientations related to multiparty negotiation); and all of the Udall Foundation certificate program ECCR trainings. This survey is a primary means by which the National Center evaluates its performance on this critical agency activity.

(20 U.S.C. 5601-5609)

Dated: March 25, 2024.
David P. Brown,
Executive Director, Morris K. Udall and Stewart L. Udall Foundation.

[FR Doc. 2024-06650 Filed 3-27-24; 8:45 am]

BILLING CODE 6820-FN-P